DEPARTMENT OF ENERGY

Federal Energy Regulatory Commission

[Project No. 12611-003]

Verdant Power, LLC; Notice Concluding Pre-Filing Process and Approving Process Plan and Schedule

May 1, 2009.

a. Type of Filing: Notice of Intent to File Application for License for a Hydrokinetic Pilot Project.

b. Project No.: 12611-003.

c. Dated Filed: November 25, 2008.

d. Submitted By: Verdant Power, LLC.

e. Name of Project: Roosevelt Island Tidal Energy (RITE) Project.

f. Location: In the east channel of the East River in New York City, New York. The project would not occupy federal lands.

g. Filed Pursuant to: 18 CFR 5.3 of the Commission's regulations

h. Applicant Contact: Ronald F. Smith, Verdant Power, LLC, The Octagon, 888 Main Street, New York, NY 10044 (212) 888-8887 ext. 601.

i. FERC Contact: Tom Dean (202) 502-6041.

j. Verdant Power, LLC (Verdant Power) has filed with the Commission: (1) A notice of intent (NOI) to file an application for a pilot hydrokinetic hydropower project and a draft license application with monitoring plans; (2) a request for waivers of certain Integrated Licensing Process (ILP) regulations necessary for expedited processing of a license application for a hydrokinetic pilot project; (3) a proposed process plan and schedule; and (4) a request to be designated as the non-federal representative for section 7 of the Endangered Species Act consultation and for section 106 consultation under the National Historic Preservation Act.

k. A notice was issued on December 1, 2008, soliciting comments on the draft license application from agencies and stakeholders. Comments were filed by federal and state agencies, and non-governmental organizations. No comments were filed opposing the request to waive the integrated licensing process regulations or the proposed process plan and schedule.

l. The December 1, 2008, notice approved Verdant Power's request to be designated as the non-federal representative for section 7 of the Endangered Species Act (ESA) with the U.S. Fish and Wildlife Service and the National Marine Fisheries Service, and its request to initiate consultation under section 106 of the National Historic Preservation Act with the New York State Historic Preservation Officer.

m. The proposed RITE Project would consist of: (1) A field array of 30 35-kilowatt, 5-meter-diameter axial flow Kinetic Hydropower System (KHPS) turbine-generator units mounted on ten tri-frame mounts with a total capacity of about 1 megawatt; (2) underwater cables from each turbine to five shoreline switchgear vaults that would interconnect to a control room and interconnection points; and (3) appurtenant facilities for navigation safety and operation. The estimated annual generation of the proposed project would be between 1,680 and 2,400 megawatt-hours.

n. The pre-filing process has been concluded and the requisite regulations have been waived such that the process and schedule indicated below can be implemented.

o. Post-filing process schedule. The post-filing process will be conducted pursuant to the following schedule. Revisions to the schedule may be made as needed.

Milestones | Dates
Final license application expected | July 31, 2009.
Issue notice of acceptance and ready for environmental analysis and request for interventions | August 17, 2009.
Issue biological assessment | August 17, 2009.
Comments and interventions due | September 16, 2009.
Issue notice of availability of environmental assessment | November 16, 2009.
Comments due and 10(j) resolution, if needed | December 16, 2009.

p. Register online at http://ferc.gov/esubscribenow.htm to be notified via e-mail of new filing and issuances related to this or other pending projects. For assistance, contact FERC Online Support.

Kimberly D. Bose,
Secretary.

[FR Doc. E9-10695 Filed 5-7-09; 8:45 am]

BILLING CODE P